DEPARTMENT OF DEFENSE

Department of the Navy

[USN-2006-0054]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on October 23, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 18, 2006.
C.R. Choate,
Alternate OSD Federal Register Liaison Officer, Department of Defense.

N01770-2

System Name:

Casualty Information Support System (May 31, 2006, 71 FR 30890).

Changes:

* * * * *

System location:

Delete entry and replace with “Primary System—Personal Readiness and Community Support (N152), Navy Personnel Command, 5720 Integrity Drive, Millington, TN 38055-6210; the local activity for which individual is assigned; and the Washington National Records Center, Suitland, MD. Official mailing addresses are published in the Standard Navy Distribution List that is available at http://doni.daps.dla.mil/sndl.aspx.”

* * * * *

System manager(s) and address:

Delete entry and replace with “Director, Readiness and Community Support (Code N152), Navy Personnel Command, 5720 Integrity Drive, Millington, TN 38055-6210.”

Notification procedure:

Delete first paragraph and replace with “Individuals seeking to determine whether this system of records contains information about themselves should address written inquiries to the Director, Readiness and Community Support (N152), Navy Personnel Command, 5720 Integrity Drive, Millington, TN 38055-6210 or to the local activity for which individual is assigned. Official mailing addresses are published in the Standard Navy Distribution List that is available at http://doni.daps.dla.mil/sndl.aspx.”

Record access procedures:

Delete first paragraph and replace with “Individuals seeking access to records about themselves contained in this system of records should address written inquiries to the Director, Readiness and Community Support (N152), Navy Personnel Command, 5720 Integrity Drive, Millington, TN 38055-6210 or to the local activity for which individual is assigned. Official mailing addresses are published in the Standard Navy Distribution List that is available at http://doni.daps.dla.mil/sndl.aspx.”

* * * * *

N01770-2

System name:

Casualty Information Support System.

System location:

Primary System—Personal Readiness and Community Support (N152), Navy Personnel Command, 5720 Integrity Drive, Millington, TN 38055-6210; the local activity for which individual is assigned; and the Washington National Records Center, Suitland, MD. Official mailing addresses are published in the Standard Navy Distribution List that is available at http://doni.daps.dla.mil/sndl.aspx.

Categories of individuals covered by the system:

All Navy military personnel who are reported missing, Missing in Action, Prisoner of War or otherwise detained by armed force; deceased in either an active or inactive duty status; reported seriously ill/injured in an active duty status.

Categories of records in the system:

Correspondence, reports, and records in both automated and nonautomated form concerning circumstances of casualty, next-of-kin data, survivor benefit information, personal and service data, and casualty program data.

Authority for maintenance of the system:

10 U.S.C. 5013, Secretary of the Navy; OPNAVINST 1770.1, Casualty Assistance Calls and Funeral Honors Support Program Coordination; and E.O. 9397 (SSN).

Purpose(s):

To assist in the management of the casualty assistance program and to provide swift accurate responses to beneficiaries and survivors of Navy military personnel; to aid in the efficient settlement of the service member's estate and other affairs.

To assist severely injured service members and the families to recovery and/or transition.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the Social Security Administration in connection with eligibility, notification and assistance in obtaining benefits due.

To officials and employees of the Department of Veterans Affairs and the Selective Service Administration in connection with eligibility, notification and assistance in obtaining benefits due.

To officials of other Federal, state, and local government agencies in connection with eligibility, notification and assistance in obtaining benefits due.

The DoD ‘Blanket Routine Uses’ that appear at the beginning of the Navy's compilation of systems notices apply to this system.

Policies and practices for storing, retrieving, accessing, retaining, and disposing of records in the system:

Storage:

Automated records may be stored on media. Manual records may be stored in paper files, microfiche or microfilm.

Retrievability:

Records may be retrieved by name and/or Social Security Number.

Safeguards:

Computer files are accessible only to authorized persons that are properly screened, trained and cleared.

Manual records and computer printouts are available only to authorized personnel having a need-to-know.

Retention and disposal:

Records are maintained for seven years and then destroyed.

System manager(s) and address:

Director, Readiness and Community Support (Code N152), Navy Personnel Command, 5720 Integrity Drive, Millington, TN 38055-6210.

Notification procedure:

Individuals seeking to determine whether this system of records contains information about themselves should address written inquiries to the Director, Readiness and Community Support (N152), Navy Personnel Command, 5720 Integrity Drive, Millington, TN 38055-6210 or to the local activity for which individual is assigned. Official mailing addresses are published in the Standard Navy Distribution List that is available at http://doni.daps.dla.mil/sndl.aspx.

The letter should contain full name, Social Security Number (and/or enlisted service number/officer file number), rank/rate, military status, date of casualty and status at time of casualty, and signature of the requester.

Record access procedures:

Individuals seeking access to records about themselves contained in this system of records should address written inquiries to the Director, Readiness and Community Support (N152), Navy Personnel Command, 5720 Integrity Drive, Millington, TN 38055-6210 or to the local activity for which individual is assigned. Official mailing addresses are published in the Standard Navy Distribution List that is available at http://doni.daps.dla.mil/sndl.aspx.

The letter should contain full name, Social Security Number (and/or enlisted service number/officer file number), rank/rate, military status, date of casualty and status at time of casualty, and signature of the requester.

Contesting record procedures:

The Navy's rules for accessing records, and for contesting contents and appealing initial agency determinations are published in Secretary of the Navy Instruction 5211.5; 32 CFR part 701; or may be obtained from the system manager.

Record source categories:

Officials and employees of the Department of the Navy, Department of Defense, Public Health Service, Department of Veterans Affairs and components, in performance of their official duties as specified by current instructions and regulations promulgated by competent authority; casualty reports may also be received from state and local agencies, hospitals and other agencies having knowledge of casualties to Navy personnel; general correspondence concerning member.

Exemptions claimed for the system:

None.

[FR Doc. 06-8032 Filed 9-21-06; 8:45 am]

BILLING CODE 5001-06-P